DEPARTMENT OF ENERGY

Federal Energy Regulatory Commission

Combined Notice of Filings #1

Take notice that the Commission received the following electric corporate filings:

Docket Numbers: EC20-85-000.

Applicants: Entergy Texas, Inc.

Description: Additional Information for the July 30, 2020 Application for Authorization Under Section 203 of the Federal Power Act of Entergy Texas, Inc.

Filed Date: 12/30/20.

Accession Number: 20201230-5500.

Comments Due: 5 p.m. ET 1/11/21.

Docket Numbers: EC21-38-000.

Applicants: Imperial Valley Solar 2, LLC.

Description: Application for Authorization Under Section 203 of the Federal Power Act of Imperial Valley Solar 2, LLC.

Filed Date: 12/31/20.

Accession Number: 20201231-5439.

Comments Due: 5 p.m. ET 1/21/21.

Take notice that the Commission received the following electric rate filings:

Docket Numbers: ER10-2042-037; ER10-1862-031; ER10-1871-010; ER10-1893-031; ER10-1934-031; ER10-1938-032; ER10-1942-029; ER10-2985-035; ER10-3049-036; ER10-3051-036; ER11-4369-016; ER16-2218-016; ER17-696-017.

Applicants: Calpine Energy Services, L.P., Calpine Construction Finance Company, LP, Calpine Energy Solutions, LLC, Calpine PowerAmerica—CA, LLC, CES Marketing IX, LLC, CES Marketing X, LLC, Champion Energy, LLC, Champion Energy Marketing LLC, Champion Energy Services, LLC, Morgan Energy Center, LLC, North American Power and Gas, LLC, North American Power Business, LLC, Power Contract Financing, L.L.C.

Description: Triennial Market Power Analysis for Southeast Region of Calpine Southeast MBR Sellers.

Filed Date: 12/31/20.

Accession Number: 20201231-5356.

Comments Due: 5 p.m. ET 3/1/21.

Docket Numbers: ER10-2063-004.

Applicants: Otter Tail Power Company.

Description: Triennial Market Power Analysis for Central Region and Notice of Non-Material Change in Status of Otter Tail Power Company.

Filed Date: 12/31/20.

Accession Number: 20201231-5370.

Comments Due: 5 p.m. ET 3/1/21.

Docket Numbers: ER10-2645-006.

Applicants: Baconton Power LLC.

Description: Triennial Market Power Analysis for Southeast Region of Baconton Power LLC.

Filed Date: 12/31/20.

Accession Number: 20201231-5367.

Comments Due: 5 p.m. ET 3/1/21.

Docket Numbers: ER16-1720-016.

Applicants: Invenergy Energy Management LLC.

Description: Triennial Market Power Analysis for Southeast Region of Invenergy Energy Management LLC.

Filed Date: 12/31/20.

Accession Number: 20201231-5328.

Comments Due: 5 p.m. ET 3/1/21.

Docket Numbers: ER17-1394-002; ER19-2728-001; ER19-2729-001.

Applicants: 83WI 8me, LLC, Lily Solar LLC, Lily Solar Lessee, LLC.

Description: Supplement to September 22, 2020 Notice of Non-Material Change in Status of X-Elio Public Utilities, et al.

Filed Date: 12/15/20.

Accession Number: 20201215-5169.

Comments Due: 5 p.m. ET 1/25/21.

Docket Numbers: ER18-548-001; ER18-547-001; ER18-549-001.

Applicants: CP Energy Marketing (US) Inc., CPI USA North Carolina LLC, Decatur Energy Center, LLC.

Description: Triennial Market Power Analysis for Southeast Region of Capital Power Southeast MBR Sellers.

Filed Date: 12/31/20.

Accession Number: 20201231-5327.

Comments Due: 5 p.m. ET 3/1/21.

Docket Numbers: ER18-1197-004.

Applicants: Camilla Solar Energy LLC.

Description: Triennial Market Power Analysis for Southeast Region of Camilla Solar Energy LLC.

Filed Date: 12/31/20.

Accession Number: 20201231-5298.

Comments Due: 5 p.m. ET 3/1/21.

Docket Numbers: ER21-743-000; TS21-1-000.

Applicants: Hardin Wind LLC.

Description: Request for Waiver of Open-Access Requirements of Order Nos. 888, et al. of Hardin Wind LLC.

Filed Date: 12/23/20.

Accession Number: 20201223-5375.

Comments Due: 5 p.m. ET 1/13/21.

Docket Numbers: ER21-788-000.

Applicants: PJM Interconnection, L.L.C.

Description: § 205(d) Rate Filing: Original ISA/CSA, Service Agreement Nos. 5861/5862; Queue No. AB2-070 to be effective 12/1/2020.

Filed Date: 12/31/20.

Accession Number: 20201231-5097.

Comments Due: 5 p.m. ET 1/21/21.

Docket Numbers: ER21-789-000.

Applicants: Consolidated Edison Company of New York, Inc.

Description: § 205(d) Rate Filing: PASNY Tariff RY2 12-31-2020 to be effective 1/1/2021.

Filed Date: 1/4/21.

Accession Number: 20210104-5001.

Comments Due: 5 p.m. ET 1/25/21.

Docket Numbers: ER21-790-000.

Applicants: Consolidated Edison Company of New York, Inc.

Description: § 205(d) Rate Filing: WDS RY 2 to be effective 1/1/2021.

Filed Date: 1/4/21.

Accession Number: 20210104-5002.

Comments Due: 5 p.m. ET 1/25/21.

Docket Numbers: ER21-791-000.

Applicants: North Star Solar PV LLC.

Description: Tariff Cancellation: Notices of Cancellation and Withdrawal of Rate Schedule to be effective 1/5/2021.

Filed Date: 1/4/21.

Accession Number: 20210104-5003.

Comments Due: 5 p.m. ET 1/25/21.

Docket Numbers: ER21-792-000.

Applicants: Pacific Gas and Electric Company.

Description: Tariff Cancellation: Notice of Termination of E&P Agreement EDPR CA Solar Park-Sandrini Sol 2 (EP-26) to be effective 3/6/2021.

Filed Date: 1/4/21.

Accession Number: 20210104-5036.

Comments Due: 5 p.m. ET 1/25/21.

Docket Numbers: ER21-793-000.

Applicants: Pacific Gas and Electric Company.

Description: Tariff Cancellation: Notice of Termination of E&P Agreement EDPR CA Solar Park-Sonrisa (EP-23) to be effective 3/6/2021.

Filed Date: 1/4/21.

Accession Number: 20210104-5037.

Comments Due: 5 p.m. ET 1/25/21.

Docket Numbers: ER21-794-000.

Applicants: PJM Interconnection, L.L.C.

Description: § 205(d) Rate Filing: Original ISA, Service Agreement No. 5866; Queue No. AD1-082 to be effective 12/7/2020.

Filed Date: 1/4/21.

Accession Number: 20210104-5041.

Comments Due: 5 p.m. ET 1/25/21.

Docket Numbers: ER21-795-000.

Applicants: PJM Interconnection, L.L.C.

Description: § 205(d) Rate Filing: Original WMPA SA No. 5875; Queue No AE2-129 to be effective 12/3/2020.

Filed Date: 1/4/21.

Accession Number: 20210104-5068.

Comments Due: 5 p.m. ET 1/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2021.
Nathaniel J. Davis, Sr.,
Deputy Secretary.

[FR Doc. 2021-00135 Filed 1-7-21; 8:45 am]

BILLING CODE 6717-01-P